DEPARTMENT OF HOUSING AND URBAN DEVELOPMENT

[Docket No. FR-5601-C-10]

Federal Property Suitable as Facilities To Assist the Homeless

AGENCY: Office of the Assistant Secretary for Community Planning and Development, HUD.

ACTION: Notice.—Correction.

SUMMARY: On March 09, 2012, at 77 FR 14411, HUD published a notice announcing HUD's suitable and unsuitable properties. The New York property (41201210003) was published as unsuitable in error. The correct suitability determination was published on February 17, 2012, at 77 FR 9681, as suitable/available with an “off-site removal” requirement. The incorrect listing is below:

Unsuitable Properties

Building

New York

Bldg. 0589

Brookhaven Nat'l Lab

Upton NY 11973

Landholding Agency: Energy

Property Number: 41201210003

Status: Unutilized Comments: national security concerns; no public access and no alternative method

Reasons: Secured Area

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for unsuitability for use to assist the homeless. The properties were reviewed using information provided to HUD by Federal landholding agencies regarding unutilized and underutilized buildings and real property controlled by such agencies or by GSA regarding its inventory of excess or surplus Federal property.

Dated: March 20, 2012.
Mark R. Johnston,
Deputy Assistant Secretary for Special Needs.

[FR Doc. 2012-7343 Filed 3-26-12; 8:45 am]

BILLING CODE 4210-67-P